DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of June and July 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations For Worker Adjustment Assistance

In each of the following cases the investigation revealed that criterion (3) has not been met. A survey of customers indicated that increased imports did not contribute importantly to worker separations at the firm.

None

In the following case, the investigation revealed that the criteria for eligibility have not been met for the reasons specified.

The investigation revealed that criterion (a)(2)(A) (I.C.) (Increased imports) and (a) (2)(B) (II.B) (No shift in production to a foreign country) have not been met.

TA-W-51,782; Troy Tooling, Inc., Rochester Hills, MI.

TA-W-51,910; Southwest Windpower, Inc., Duluth, MN.

TA-W-51,916; Twin City E.D.M., Inc., Fridley, MN.

TA-W-51,792; Mack Industries, Troy, MI.

TA-W-51,512; Unocal, Kenai Production/Cook Inlet Div., Anchorage, AK.

TA-W-51,400; Credence Corp. Hillsboro, OR.

TA-W-51,675; Aero-Motive Co., a wholly owned subsidiary of Woodhead Industries, Inc., Kalamazoo, MI.

TA-W-51,779; Cordis Endovascular, a wholly owned subsidiary of Johnson and Johnson, Maple Grove, MN.

TA-W-51,815; Sharon Tube Co., Sharon, PA.

TA-W-51,823; OEM Worldwide LLC, Spearfish, SD.

TA-W-51,855; Plexus Corp., Neenah Buildings 1,2,3, Plexus Electronic Assembly Corp., including Manpower and Kelly Services, Neenah, WI.

TA-W-52,059; Brown Foundry, Inc., Swanton, VT.

TA-W-52,092; General Mills Operations, Inc., Bakeries and Food Service Div., including leased workers of Masterson Personnel, Inc., Eden Prairie, MN.

TA-W-51,798 Semitool, Inc., Headquarters, Kalispell, MT; A; San Jose, CA, B; Western Region, Beaverton, OR, C; Central Region, Austin, TX, D; Dallas Office, Dallas, TX, E; Franktown, CO, F; Southwest Office, Temple, AZ, G; Eastern Region, Nashua, NH, H; Williamsburg, VA, I; Orlando, FL, J; Stroudsburg, PA, and K; Montgomery, NY.

The workers' firm does not produce an article as required for certification under section 222 of the Trade Act of 1974.

TA-W-52,034; Lion Bioscience, a subsidiary of Lion AG, Cleveland, OH.

TA-W-52,097; Symantec Corp., Springfield, OR.

TA-W-52,129; Hewlett-Packard Co., Personal Computing Group, Commercial Solutions Center, HP Services Div., Colorado Springs, CO.

TA-W-52,005; Reliability, Inc., Essex Junction, VT.

TA-W-51,960; Agilent Technologies, Inc., Global Infrastructure Organizations, Palo Alto, CA.

TA-W-51,901; J.J. Mac, Incorporated, d/b/a Rainbeau, San Francisco, CA.

TA-W-51,651; Solectron Global Services, a div. of Solectron Corp., Hillsboro, OR.

TA-W-51,707; Lucent Technologies, Inc., Lucent Worldwide Services, Spokane, WA.

TA-W-51,851 A, B; Northwest Airlines, Inc., Duluth, MN, Minneapolis, MN and Atlanta, GA.

TA-W-51,896; Ademco Distribution, Inc. (ADI), a subsidiary of Honeywell International, Inc., Melville, NY.

TA-W-51,932; Northwest Airlines, Inc., Ground Operations Div., Anchorage, AK.

TA-W-51,963; Nortel Networks, Department R084, Research Triangle Park, NC.

TA-W-52,050 & A; Merrill Corp., St. Paul, MN and Boston, MA.

TA-W-52,086; Stream International, a div. of Solectron Corp., Dallas, TX.

The investigation revealed that criteria (a)(2)(A)(I.B) (Sales or production, or both, did not decline) and (II.B) (has shifted production to a county not under the free trade agreement with the U.S.) have not been met.

TA-W-51,703; Meadwestvaco, Papers Group Div., Escanaba, MI.

The investigation revealed that criteria (a)(2)(A)(I.C) (increased imports) and (a)(2)(B)(II.C) (has shifted production to country not under the free trade agreement with U.S) have not been met.

TA-W-52,087; Advantek, Inc., Minnetonka, MN.

TA-W-51,875; Sony Disc Manufacturing, a div. of Sony Music Entertainment, Inc., Springfield, OR.

The investigation revealed that criteria (2) has not been met. The workers firm (or subdivision) is not a supplier or downstream producer to trade-affected companies.

TA-W-51,900; Manastrip Corp., Manufacturing Div., Rexford, NY.

Affirmative Determinations For Worker Adjustment Assistance

The following certifications have been issued; the date following the company name and location of each determination references the impact date for all workers of such determination.

The following certifications have been issued. The requirements of (a)(2)(A) (increased imports) of section 222 have been met.

TA-W-51,277; Houlton International Corp., Houlton, ME: February 24, 2002.

TA-W-51,607A; Torque—Traction Manufacturing Technologies, Inc., formerly known as Spicer Driveshaft Manufacturing, Inc., a div. of Dana Corp., Lima, OH: April 22, 2002.

TA-W-51,774; Pactiv Corp., Red Bluff, CA: May 2, 2002.

TA-W-51,887; Starline Manufacturing Co., Inc. div. of Chicago Faucets, Milwaukee, WI: May 23, 2002.

TA-W-51,907; Broyhill Furniture Industries, Inc., Taylorsville Upholstery Plant, Taylorsville, NC: May 29, 2002.

TA-W-51,947; Alltrista Consumer Products Co., Strong, ME: May 21, 2002.

TA-W-52,007; American London Norwood, Norwood, MA: May 29, 2002.

TA-W-51,422; Butler Manufacturing Co., Buildings Div., Galesburg, IL: April 3, 2002.

TA-W-51,657; Lucent Technologies, North Andover, MA: May 1, 2002.

TA-W-51,994; Jakel, Inc., Clinton, KY: June 3, 2002.

TA-W-51,999; Thunderbird Mining Co., a subsidiary of Eveleth Mines, LLC, Eveleth, MN: June 5, 2002.

TA-W-52,038; Sonoco Products Co., Baker Div., Granite Falls, NC: June 13, 2002.

TA-W-51,985; United States Pipe & Foundry Co., Inc., d/b/a U.S. Castings, Anniston, AL: June 2, 2002.

TA-W-51,850; American Colloid Co., a div. of Amcol International, Inc., Paris, TN: May 22, 2002.

TA-W-51,795 & A, B; International Seafoods of Alaska, Inc., a/k/a True World Foods-Alaska, Plant 2, Kodiak, AK, Seattle, WA and Astoria, OR: May 2, 2002.

TA-W-51,849; Spencer and Reynolds, Inc., Rancho Cucamonga, CA: May 5, 2002.

TA-W-51,902; River Ltd, Fall River, MA: May 27, 2002.

TA-W-51,931; New Stamco, Inc., New Bremen, OH: May 21, 2002.

TA-W-52,110; Pikeville Apparel Manufacturing, Inc., Pikeville, TN: June 17, 2002.

The following certifications have been issued. The requirements of (a)(2)(B) (shift in production) of section 222 have been met.

TA-W-51,357; Forest City Tool, a div. of Robert Bosch Tool Corp., Hickory, NC: March 20, 2002.

TA-W-51,759; Heidenhain Corp., a wholly owned subsidiary of Heidenhain Holding, Inc., Schaumburg, IL: May 6, 2002.

TA-W-51,846; Legendary Holdings, Inc., Chula Vista, CA: May 13, 2002.

TA-W-51,856; Intalco Aluminum Corp., Ferndale, WA: May 14, 2002.

TA-W-51,872; J and J Wound Management, a div. of Ethicon, Sherman, TX: May 27, 2002.

TA-W-51,961; 3M Co., Filtration Manufacturing Plant, Eagan, MN: May 30, 2002.

TA-W-51,982; General Mills Bakeries & Foodservice, Hillsdale, MI: June 4, 2002.

TA-W-51,992; American Standard, Inc., Paintsville, KY: June 6, 2002.

TA-W-52,009; AGFA Corp., Newark, DE: May 28, 2002.

TA-W-52,026; Neff Motivation, Inc., Greenville, OH: June 12, 2002.

TA-W-52,057; Kasco Corp., St. Louis, MO: June 13, 2002.

TA-W-52,075; Prescolite, Inc., a div. of Hubbell, Inc., El Dorado, AR: June 16, 2002.

TA-W-52,076; Sandicast, Inc., San Diego, CA: June 10, 2002.

TA-W-51,535; International Business Machines Corp. (IBM), IBM Systems Group, Div. 53—Integrated Supply Chain, San Jose, CA: March 15, 2002.

TA-W-51,848; WSW Company of Sharon, Inc., subsidiary of Wormser Co., Rebel Screeners, Inc., Sharon, TN: May 12, 2002.

TA-W-51,893; Ferraz Shawmut, Inc., a subsidiary of Groupe Carbone Lorraine, Newburyport, MA: May 28, 2002.

TA-W-51,914; Tecumseh Products Co., Douglas Operations, Douglas, GA: May 23, 2002.

TA-W-51,935; Corning Cable Systems, Keller, TX: May 23, 2002.

TA-W-51,956; Plexus Corp., Plexus Electronic Assembly Corp., Neenah, WI: June 4, 2002.

TA-W-51,959; Fiskars Brands, Inc., Home Leisure Div., Opelika, AL: May 29, 2002.

TA-W-51,987; EGS Electrical Group, a div. of Appleton Electric, LLC, Columbus, NE: June 6, 2002.

TA-W-52,020; Dura Automotive Systems, G.P., a div. of North American Body and Glass, a part of Dura Automotive Systems, Inc., including leased workers of Job World, Inc., Fulton, KY: June 4, 2002.

TA-W-52,021; Eagle Ottawa, LLC, Rochester Hills, MI: May 16, 2002.

TA-W-52,051; Leviton Manufacturing Co., Southern Devices Div., Morganton, NC: June 17, 2002.

TA-W-52,053; Whispering Pines Sportswear, Manufacturing Division, Pageland, SC: May 17, 2002.

TA-W-52,069; MKS Instruments, Inc., Eto, Inc., Medical Electronics Div., including leased workers of Adecco, Volt and Kelly Services, Colorado Springs, CO: June 17, 2002.

TA-W-52,073; American, Inc., Irwindale, CA: June 2, 2002.

TA-W-52,186; BASF Corp., Fenton, MO: May 18, 2002.

TA-W-51,881 & A; Centis, Inc., Consumer Products Div., Paw Paw, MI and Niles, MI: May 20, 2002.

TA-W-51,908; Lion Ribbon Co., Inc., d/b/a C.M. Offray, Inc., Hagerstown, MD: May 29, 2002.

TA-W-52,033; Images 2, Inc., Lexington, AL: May 23, 2002.

TA-W-52,085; Motorola, Inc., Broadband Communications Sector, Digital Media Systems (DMS), San Diego, CA: June 5, 2002.

TA-W-52,102; Western Textile Products Co., Healthcare Div., Memphis, TN: June 12, 2002.

TA-W-52,122; Alden Products Co., Brockton, MA: June 10, 2002.

TA-W-52,183; Fishing Vessel (F/V) Kristi Lynn, Petersburg, AK: June 26, 2002.

TA-W-52,193; Planar Systems, Inc., Evergreen El Manufacturing Facility, Beaverton, OR: June 23, 2002.

The following certification has been issued. The requirement of upstream supplier to a trade certified primary firm has been met.

TA-W-52,179; Jim Michel Logging, Inc., Baker City, OR: June 27, 2002.

TA-W-52,111; State of Alaska Commercial Fisheries Entry Commission Permit #S04T59879T, Nuchagak, AK: June 5, 2002.

TA-W-52,063; Fishing Vessel (F/V) Elvagene, Ketchikan, AK: May 28, 2002.

I hereby certify that the aforementioned determinations were issued during the months of June and July 2003. Copies of these determinations are available for inspection in Room C-5311, U.S. Department of Labor, 200 Constitution Avenue, NW., Washington, DC 20210 during normal business hours or will be mailed to persons who write to the above address.

Dated: July 7, 2003.
Timothy Sullivan,
Director, Division of Trade Adjustment Assistance.

[FR Doc. 03-18557 Filed 7-21-03; 8:45 am]

BILLING CODE 4510-30-P